DEPARTMENT OF THE INTERIOR

Geological Survey

Scientific Earthquake Studies Advisory Committee

AGENCY: U.S. Geological Survey.

ACTION: Notice of meeting.

SUMMARY: Pursuant to Public Law 106-503, the Scientific Earthquake Studies Advisory Committee (SESAC) will hold its seventh meeting. The meeting location is the FedEx Institute of Technology, campus of the University of Memphis, 365 Innovation Drive, Memphis, Tennessee 38152-3115. The Committee is comprised of members from academia, industry, and State government. The Committee shall advise the Director of the U.S. Geological Survey (USGS) on matters relating to the USGS's participation in the National Earthquake Hazards Reduction Program.

The Committee will review the overall direction of the U.S. Geological Survey's Earthquake Hazards Program with emphasis on developing the next generation of seismic hazard maps and activities in the Central United States.

Meetings of the Scientific Earthquake Studies Advisory Committee are open to the public.

DATES: June 3, 2004, commencing at 9 a.m. and adjourning at noon on June 4, 2004.

CONTACT: Dr. David Applegate, U.S. Geological Survey, MS 905, 12201 Sunrise Valley Drive, Reston, Virginia 20192, (703) 648-6714.

Dated: May 12, 2004.
P. Patrick Leahy,
Associate Director for Geology.

[FR Doc. 04-11162 Filed 5-17-04; 8:45 am]

BILLING CODE 4310-Y7-M